DEPARTMENT OF JUSTICE

Antitrust Division

Notice Pursuant to the National Cooperative Research and Production Act of 1993—Clean Highly Efficient Decarbonized Engines

Notice is hereby given that, on January 4, 2024, pursuant to section 6(a) of the National Cooperative Research and Production Act of 1993, 15 U.S.C. 4301 et seq. (“the Act”), Clean Highly Efficient Decarbonized Engines (“CHEDE-9”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Afton Chemical, Richmond, VA; Caterpillar, Inc., Peoria, IL; Deere and Company, Cedar Falls, IA; Eaton, Marshall, MI; Isuzu, Tokyo, JAPAN; Superturbo Technologies, Loveland, CO; Tenneco, Plymouth, MI; Volkswagen Aktiengesellschaft, Wolfsburg, GERMANY; Volvo Powertrain North America, Hagerstown, MD; WABTEC, Pittsburgh, PA; Weichai Power Co. Ltd., Shandong, PEOPLE'S REPUBLIC OF CHINA; Yuchai, Guangxi, PEOPLE'S REPUBLIC OF CHINA; Toyota Industries Corporation, Aichi, JAPAN; and HD Hyundai Infracore, Incheon, KOREA. The general area of CHEDE-9's planned activity is to develop new and novel technologies that provide clean and efficient decarbonized powertrain solutions; to provide a collaborative environment for evaluation of advanced decarbonized engine and aftertreatment technology to meet the goals of GHG emissions of 35% to 50% below model year 2024 products and NOx to remain below one part per million at the tailpipe.

Suzanne Morris,
Deputy Director Civil Enforcement Operations, Antitrust Division.

[FR Doc. 2024-02262 Filed 2-5-24; 8:45 am]

BILLING CODE 4410-11-P